DEPARTMENT OF AGRICULTURE

Submission for OMB Review; Comment Request

November 6, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal Plant and Health Inspection Service

Title: Brucellosis Program Cooperative Agreements—Title 9, CFR Parts 50, 51, 53, 54, 71, 76, and 78.

OMB Control Number: 0579-0047.

Summary of Collection: Brucellosis is a contagious animal disease that causes loss of young through spontaneous abortion or birth of weak offspring, reduced milk production, and infertility. It is mainly a disease of cattle, bison and swine. There is no economically feasible treatment for brucellosis in livestock. Veterinary Services, a division with USDA's Animal and Plant Health Inspection Service (APHIS), is responsible for administering regulations intended to prevent the dissemination of animal diseases, such as brucellosis, within the United States. These regulations are found in part 78 of title 9, Code of Federal Regulations. The continued presence of brucellosis in a herd seriously threatens the health of other animals. APHIS will collect information using various forms.

Need and Use of the Information: APHIS will use the information collected from the forms to continue to search for other infected herds, maintain identification of livestock, monitor deficiencies in identification of animals for movement, and monitor program deficiencies in suspicious and infected herds. This information will be used to determine brucellosis area status and aids herd owners by speeding up the detection and elimination of serious disease conditions in their herds. Without the date, APHIS' Brucellosis Eradication Program would be severely crippled.

Description of Respondents: Farms; State, Local or Tribal Government.

Number of Respondents: 7,382.

Frequency of Responses: Recordkeeping; reporting: On occasion.

Total Burden Hours: 17,681.

Animal and Plant Health Inspection Service

Title: Importation of Clementines from Spain.

OMB Control Number: 0579-NEW.

Summary of Collection: The United States Department of Agriculture Animal and Plant Health Inspection Service (APHIS) is responsible for preventing plant diseases or insect pests from entering the United States, preventing the spread of pests not widely distributed within the United States, eradicating plant pests when eradication is feasible. The Plant Protection Act authorizes the Department to carry this mission. Until recently, clementines from Spain have been imported under permit, and provided that they were cold treated for the Mediterranean fruit fly in accordance with the treatment listed in the Plant Protection and Quarantine Treatment Manual. Clementines imported from Spain were not required to meet any additional requirements in order to be imported into the United States, but were subject to inspection at the port of entry. In November 2001, importation of clementines from Spain was suspended due to live Medfly larvae being intercepted. APHIS' final rule will amend the fruits and vegetables regulations to allow the importation of clementines from Spain to resume if the clementines are cold treated en route to the United States under certain conditions, and provided that certain other pretreatment and post-treatment requirements are met.

Need and Use of the Information: APHIS will collect information to ensure that the cold treatment was successfully completed and also to ensure that no Mediterranean fruit fly are found in any of the shipment of clementines from Spain. Failure to collect this information would cripple APHIS' abilities to ensure that clementines from Spain are not carrying fruit flys.

Description of Respondents: Business or other for-profit; State, local or tribal government.

Number of Respondents: 37.

Frequency of Responses: Recordkeeping; reporting: On occasion.

Total Burden Hours: 113,200.

Animal and Plant Health Inspection Service

Title: Safeguarding System Definition Project.

OMB Control Number: 0579-NEW.

Summary of Collection: “Protecting American Agriculture” is the basic charge of the Animal and Plant Health Inspection Service (APHIS). APHIS provides leadership in ensuring the health and care of animals and plants. The Plant Protection Quarantine (PPQ) is a program within APHIS, charged with creating and maintaining a system of safeguards against accidental introduction of foreign plant and animal pests and diseases. Title IV, Agriculture Risk Protection Act (PPA) of 2000, states that APHIS needs to educate its various audiences about different kinds of invasive pests and diseases and the role APHIS plays in dealing with them. The cooperation and good will of the American people is a key element in the fight to safeguard the United States against exotic plant and animal pests and diseases while providing for a healthy and abundant food supply in the global marketplace. The Safeguarding Definition Project is intended to help APHIS better understand what the public knows about their activities, what they would like to know, and how to best communicate that information. APHIS will collect information using telephone or in-person interviews, surveys, and external focus groups.

Need and Use of the Information: APHIS will collect information to guide contractors in developing slogans and messages for the program as well as obtaining ideas for implementing the market plan. The information will also help determine key words and phrases that will resonate with the audiences and what benefits APHIS/PPQ can communicate to key audiences the ultimate objective of protecting American agriculture in the United States from unwanted pests and diseases.

Description of Respondents: Business or other for-profit; Individuals or households.

Number of Respondents: 168.

Frequency of Responses: Reporting: On occasion.

Total Burden Hours: 198.

Agricultural Marketing Service

Title: National Research and Promotion Board, Council, and Committee Membership Background Information.

OMB Control Number: 0581-NEW.

Summary of Collection: The Agricultural Marketing Service (AMS) has the responsibility for implementing and overseeing research and promotion programs for a variety of commodities. Each commodity is established under specific freestanding legislation. These programs carry out projects relating to research, consumer information, advertising, sales promotion, producer information, market development and product research to assist, improve or promote the marketing distribution, and utilization of their respective commodities.

Need and Use of the Information: AMS will use form AMS-755, Research and Promotion Background Information, to determine qualifications, suitability, and availability for service on national research and promotion boards, councils, and committees. Also, the form will be used to perform background checks on the nominees, to confirm that the nominees are not delinquent with any loans and to verify that they do not have a negative history with USDA.

Description of Respondents: Individuals or households.

Number or Respondents: 672.

Frequency of Responses: Reporting: Annually.

Total Burden Hours: 336.

Food and Nutrition Service

Title: Operating Guidelines, Forms and Waivers.

OMB Control Number: 0584-0083.

Summary of Collection: Section 11(d) of the Food Stamp Act of 1977, as amended, provides that the State agency of each participating State shall submit to the Secretary for approval a plan of operation specifying the manner in which the Food Stamp Program will be conducted within the State in every political subdivision. Section 11(e) of the Act provides that the State plan of operation shall provide for State agency verification of household eligibility prior to certification, completion of certification within 30 days of filing of the application, fair hearing, and submission of reports as required by the Secretary. The basic components of the State Plan of Operation are the Federal/State Agreement, the Budget Projection Statement, and the Program Activity Statement (272.2(a)(2)). Under part 272.2(c), the State agency shall submit to the Food and Nutrition Service (FNS) for approval a Budget Projection Statement (which projects total Federal administrative costs for the upcoming fiscal year) and a Program Activity Statement (which provides program activity data for the preceding fiscal year). FNS will collect information using Forms FNS 366A and FNS 366B.

Need and Use of the Information: FNS will collect information to estimate funding needs and also provide data on the number of applications processed, number of fair hearings, and fraud control activity. FNS uses the data to monitor State agency activity levels and performance. If the information is not collected it would disrupt budget planning and delay appropriation distributions.

Description of Respondents: State, Local or Tribal Government.

Number of Respondents: 53.

Frequency of Responses: Recordkeeping; reporting: On occasion; quarterly.

Total Burden Hours: 2,932.

Food and Nutrition Service

Title: Interactive Healthy Eating Index Questionnaire

OMB Control Number: 0584-NEW.

Summary of Collection: The Center for Nutrition Policy and Promotion (CNPP) of the U.S. Department of Agriculture (USDA) wants to improve the quality, clarity and usability of the Interactive Healthy Eating Index (IHEI). The IHEI is an Internet based diet self-assessment tool. The IHEI translates scientifically based guidance into practical information and promotes nutrition education by increasing awareness of the quality of a person's diet. Since the release of the IHEI in April 2000, CNPP has not collected official user feedback on the IHEI program and its usability. To ensure appropriate user feedback, CNPP has designed the IHEI questionnaire to collect information related to the key components and functions of the IHEI that are important to its overall quality, clarity, and usability.

Need and Use of the Information: The proposed questionnaire will collect information on the usability, clarity, and quality of the IHEI website. The questionnaire will also obtain feedback on user interest and need for addition of a personalized meal plan or suggested list of foods designed to improve a person's diet quality.

Description of Respondents: Individuals or households.

Number of Respondents: 30,000.

Frequency of Responses: Reporting: Other (one-time).

Total Burden Hours: 5,000.

Office of the Secretary, White House Liaison

Title: Advisory Committee and Research and Promotion Board Membership Background Information.

OMB Control Number: 0505-0001.

Summary of Collection: Section 1804 of the Food and Agriculture Act of 1977 (7 U.S.C. 2281, et seq.) requires the Department to provide information concerning advisory committee members' principal place of residence, persons or companies by whom employed, and other major sources of income. Similar information will be required of research and promotion boards/committees in addition the supplemental commodity specific questions. The Secretary appoints board members under each program. Some of the information contained on Form AD-755 is used by the Department to conduct background clearances of prospective board members required by departmental regulations. All committee members who are appointed by the Secretary require this clearance. The Office of the Secretary, White House Liaison will collect information using form AD-755, Advisory Committee and Research and Promotion Board Membership Background Information.

Need and Use of the Information: The Office of the Secretary, White House Liaison will collect information on the background of the nominees to make sure there are no delinquent loans to the United States Department of Agriculture (USDA) as well as making sure they have no previous record that could be a negative reflection to USDA. The information obtained from the form is also used in the compilation of an annual report to Congress. Failure of the Department to provide this information would require the Secretary to terminate the pertinent committee or board.

Description of Respondents: Individuals or households.

Number of Respondents: 1644.

Frequency of Responses: Reporting: Monthly.

Total Burden Hours: 823.

Rural Housing Service

Title: 7 CFR 1822-G, Rural Housing Loans, Policies, Procedures and Authorizations.

OMB Control Number: 0575-0071.

Summary of Collection: Section 523 and 524 of the Housing Act of 1949 authorizes loans for acquiring and developing housing sites for low and moderate-income housing. Information is necessary to protect the public from projects being built in areas of low need by applicants that are unable to administer the program properly.

Need and Use of the Information: Rural Housing Service (RHS) will collect the information from participating organizations to verify and ensure program eligibility requirements and the appropriate use of loans. If the information is not collected, RHS would be unable to determine if the organization qualifies for loan assistance.

Description of Respondents: Not-for-profit institutions; State, Local and Tribal Government.

Number of Respondents: 6.

Frequency of Responses: Recordkeeping; Reporting: On occasion.

Total Burden Hours: 36.

Agricultural Research Service

Title: Web Order Forms for Research Data, Materials, Models, and Publications, Speaker Bureau and Conference, Event, and Study Registration Services.

OMB Control Number: 0518-NEW.

Summary of Collection: OMB Circular 130 Management of Federal Information Resources, establishes that “agencies will use electronic media and formats* * *in order to make government information more easily accessible and useful to the public”* * * The Government Paperwork Elimination Act (GPEA), 44 USC 3504, Title XVII, requires agencies, by October 2003, to provide the option of electronic submission of information to the public. In order to provide information and services related to its program responsibilities defined at 7 CFR 2.65, the Agricultural Research Service (ARS) needs to obtain certain basic information from the public, for example, research item or event participation requested, and name and contact information for requestor or participant. To comply with the requirements of GPEA, ARS needs to provide web forms so that customers may contact them electronically to request services such as speakers for eligible organizations; research data, materials, and models; publication; speakers; or conference, event, and study registrations.

Need and Use of the Information: ARS will use the information to respond to requests for specific services. The information will be collected electronically, by telephone, or by mail. If this collection is not conducted, ARS will be hindered from advancing its compliance with GPEA.

Description of Respondents: Individuals or households.

Number of Respondents: 11,450.

Frequency of Responses: Reporting: On occasion.

Total Burden Hours: 572.

National Agricultural Statistics Service

Title: Stock Report.

OMB Control Number: 0535-0007.

Summary of Collection: The primary function of the National Agricultural Statistics Service (NASS) is to prepare and issue current official State and national estimates of crop and livestock production. As part of this function, estimates are made for stocks of grain and oilseeds, potatoes, peanuts, hops, and rice. Grain and oilseed stocks in all positions are estimated quarterly. Grain stocks estimates are one of the most important NASS estimates, which are watched closely by growers and industry groups. General authority for data collection is granted under U.S. Code title 7, section 2204. The Hop Growers of America provides the data collection for much of the production information because of sensitivity issues an impartial third party, NASS, collects stocks and price information.

Need and Use of the Information: NASS collects information to administer farm program legislation and make decisions relative to the export-import programs. Estimates of stocks provide essential statistics on supplies and contribute to orderly marketing. Farmers and agribusiness firms use these estimates in their production and marketing decisions. Collecting this information less frequently would eliminate data needed by government, industry and farmers to keep abreast of changes at the State and national level.

Description of Respondents: Business or other for profit; Farms.

Number of Respondents: 12,876.

Frequency of Responses: Reporting: Monthly; quarterly; Semi-annually; Annually.

Total Burden Hours: 14,580.

Rural Utilities Service

Title: Advance of Loan Funds and Budgetary Control and Other Related Burdens.

OMB Control Number: 0572-0015.

Summary of Collection: The Rural Utilities Service (RUS) is authorized by the Rural Electrification Act (RE Act) of 1936, as amended, to make loans in several States and territories of the United States for rural electrification and for the purpose of furnishing and improving electric and telephone service in rural areas and to assist electric borrowers to implement demand-side management, energy conservation programs, and on-grid and off-grid renewable energy systems.'' Borrowers will provide the agency with information that supports the use of the funds as well as identify the type of projects for which they will use the funds.

Need and Use of the Information: RUS electric borrowers will submit RUS form 595, Financial Requirement & Expenditure Statement, to request an advance of loan funds. The information collected will ensure that loans funds are expended and advanced for RUS approved budget process and amounts. Failure to collect proper information could result in improper determinations of eligibility or improper use of funds.

Description of Respondents: Not-for-profit institutions; Business or other for-profit.

Number of Respondents: 700.

Frequency of Responses: Reporting: On occasion.

Total Burden Hours: 14,820.

Agricultural Marketing Service

Title: AMS Research and Promotion Customer Service Survey.

OMB Control Number: 0581-NEW.

Summary of Collection: The Agricultural Marketing Service (AMS) has the responsibility for the national commodity research and promotion boards. These boards are responsible for carrying out coordinated programs of research, producer and consumer education, and promotion to improve, maintain, and develop markets for various commodities. AMS has developed a survey to determine how well they have met their responsibilities and accomplished its mission.

Need and Use of the Information: AMS will use the information gathered to improve customer service with the boards and to provide them with an accurate evaluation of the boards.

Description of Respondents: Not-for-profit institutions; Farms.

Number of Respondents: 672.

Frequency of Responses: Reporting: On occasion.

Total Burden Hours: 336.

Sondra A. Blakey,
Departmental Information Collection Clearance Officer.

[FR Doc. 02-28740 Filed 11-12-02; 8:45 am]

BILLING CODE 3410-01-M